DEPARTMENT OF COMMERCE

National Oceanic and Atmospheric Administration

[I.D. 051502D]

Marine Mammals; File Application No. 1004-1656

AGENCY: National Marine Fisheries Service (NMFS), National Oceanic and Atmospheric Administration (NOAA), Commerce.

ACTION: Issuance of permit.

SUMMARY: Notice is hereby given that Funtime, Inc. d/b/a Six Flags Worlds of Adventure, 1060 North Aurora Road, Aurora, OH 44202, has been issued a permit to import two killer whales (Orcinus orca) for the purposes of public display.

ADDRESSES: The permit and related documents are available for review upon written request or by appointment in the following office(s):

Permits, Conservation and Education Division, Office of Protected Resources, NMFS, 1315 East-West Highway, Room 13705, Silver Spring, MD 20910 (301/713-2289); and

Regional Administrator, Northeast Region, NMFS, One Blackburn Drive, Glouster, MA, 01930-2298 (978/281-9116).

FOR FURTHER INFORMATION CONTACT: Jennifer Skidmore or Amy Sloan, (301/713-2289).

SUPPLEMENTARY INFORMATION: On November 30, 2001, notice was published in the Federal Register (66 FR 59781) that a request for a public display permit to import two killer whales (Orcinus orca) had been submitted by the above-named organization. Based on substantive comments received during the initial comment period, additional information was requested of the applicant. The comment period was reopened on February 25, 2002 (67 FR 8526) and that comment period was extended on March 27, 2002 (67 FR 14699). The requested permit has been issued under the authority of the Marine Mammal Protection Act of 1972, as amended (16 U.S.C. 1361 et seq.), and the Regulations Governing the Taking and Importing of Marine Mammals (50 CFR part 216).

Dated: May 16, 2002.
Eugene T. Nitta,
Acting Chief, Permits, Conservation and Education Division, Office of Protected Resources, National Marine Fisheries Service.

[FR Doc. 02-12869 Filed 5-21-02; 8:45 am]

BILLING CODE 3510-22-S